DEPARTMENT OF EDUCATION

Privacy Act of 1974; Computer Matching Program

AGENCY: Department of Education.

ACTION: Notice of computer matching between the U.S. Department of Education and the U.S. Postal Service.

SUMMARY: Pursuant to the Computer Matching and Privacy Protection Act of 1988 and the Office of Management and Budget (OMB) Guidelines on the Conduct of Matching Programs, a notice is hereby given of the computer matching program between the U.S. Department of Education (ED) and the U.S. Postal Service (USPS). The following notice represents the approval of a new computer matching agreement by the ED and USPS Data Integrity Boards to implement the matching program on the effective date as indicated in paragraph E of this notice.

In accordance with the Privacy Act of 1974, as amended by the Computer Matching and Privacy Protection Act of 1988, the Office of Management and Budget (OMB) Final Guidelines on the Conduct of Matching Programs (see 54 FR 25818, June 19, 1989), and OMB Circular A-130, the following information is provided:

A. Participating Agencies

The USPS is the recipient agency and will perform the computer match with debtor records provided by ED, the source agency in this matching program.

B. Purposes of the Matching Program

This matching program will compare USPS payroll and ED delinquent debtor files for the purposes of identifying postal employees who may owe delinquent debts to the Federal Government under programs administered by ED. The pay of an employee identified and verified as a delinquent debtor may be offset under the provisions of the Debt Collection Act of 1982 (Pub. L. 97-365) when voluntary payment is not made.

C. Legal Authorities Authorizing Operation of the Match

This matching program will be undertaken under the authority of the Debt Collection Act of 1982 (Pub. L. 97-365) as amended, which authorizes federal agencies to offset a federal employee's salary as a means of satisfying delinquent debts owed to the United States.

D. Categories of Individuals Involved and Identification of Records Used

The following systems of records, maintained by the participant agencies under the Privacy Act of 1974 (5 U.S.C. 552a), as amended by the Computer Matching and Privacy Protection Act of 1988 (Pub. L. 100-503), will be used to disclose records for this matching program:

1. USPS' “Finance Records—Payroll System, USPS 050-020,” containing records for approximately 800,000 employees. (Disclosure will be made pursuant to routine use No. 24 of USPS 050-020, which last appeared in the Federal Register at 57 FR 57515 on December 4, 1992.)

2. ED's “Title IV Program Files” (18-11-05), containing debt records for approximately 4,600,000 borrowers. (A notice of this system was last published in the Federal Register at 64 FR 30163 on June 4, 1999.)

E. Beginning and Ending Dates of the Matching Program

The matching program will become effective 40 days after a copy of the agreement, as approved by the Data Integrity Board of each agency, is sent to Congress and the Office of Management and Budget, or 30 days after publication of this notice in the Federal Register, whichever date is later. The matching program will continue for 18 months after the effective date. The agreement may be extended for one additional year beyond that period, if within 90 days prior to the actual expiration date of the matching agreement, the Data Integrity Boards of both the USPS and ED find that the computer matching program will be conducted without change and each party certifies that the matching program has been conducted in compliance with the matching agreement.

F. Address for Receipt of Comments and Inquiries

If you wish to comment on this matching program or obtain additional information about the program including a copy of the computer matching agreement between ED and USPS, contact John R. Adams, U.S. Department of Education, 830 First Street NE Room 41B3, Washington, DC 20202-5320. Telephone: (202) 377-3211. If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or portable document format (PDF) on the Internet at the following site: http:///www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Authority: (5 U.S.C. 5514(a); 5 U.S.C. 552a).

Dated: April 7, 2003.
Theresa S. Shaw,
Chief Operating Officer, Federal Student Aid.

[FR Doc. 03-8929 Filed 4-10-03; 8:45 am]

BILLING CODE 4000-01-P